INTERNATIONAL TRADE COMMISSION

[USITC SE-03-019]

Sunshine Act Meeting

Agency Holding the Meeting: United States International Trade Commission.

Time and Date: July 9, 2003 at 11 a.m.

Place: Room 101, 500 E Street SW., Washington, DC 20436, Telephone: (202) 205-2000.

Status: Open to the public.

Matters to be Considered: 1. Agenda for future meetings: none.

2. Minutes.

3. Ratification List.

4. Inv. Nos. AA1921-143 and 731-TA-343 (Review) (Remand) (Tapered Roller Bearings from Japan)—briefing and vote. (The Commission is currently scheduled to transmit its views on remand to the United States Court of International Trade on or before July 23, 2003.)

5. Outstanding action jackets: none.

In accordance with Commission policy, subject matter listed above, not disposed of at the scheduled meeting, may be carried over to the agenda of the following meeting.

By order of the Commission.
Issued: June 30, 2003.
Marilyn R. Abbott,
Secretary to the Commission.

[FR Doc. 03-16935 Filed 6-30-03; 2:37 pm]

BILLING CODE 7020-02-P